COMMODITY FUTURES TRADING COMMISSION

Global Markets Advisory Committee

AGENCY: Commodity Futures Trading Commission.

ACTION: Notice of meeting.

SUMMARY: The Commodity Futures Trading Commission (CFTC) announces that on February 13, 2023, from approximately 9:30 a.m. to 3 p.m. (Eastern Standard Time, or EST), the Global Markets Advisory Committee (GMAC or Committee) will hold an in-person public meeting at the CFTC's Washington, DC headquarters with options for the public to attend virtually. At this meeting, the GMAC will discuss the Committee's structure; formation of subcommittees; and potential topics for the GMAC to prioritize in making policy recommendations to the CFTC on issues that affect the integrity and competitiveness of U.S. markets and U.S. firms engaged in global business, including the regulatory challenges of global markets that reflect the increasing interconnectedness of markets and the multinational nature of business, and international standards for regulating futures, swaps, options, and derivatives markets, as well as intermediaries.

DATES: The meeting will be held on February 13, 2023, from approximately 9:30 a.m. to 3 p.m. EST. Please note that the meeting may end early if the GMAC has completed its business. Members of the public who wish to submit written statements in connection with the meeting should submit them by February 20, 2023.

ADDRESSES: The meeting will take place in the Conference Center at the CFTC's headquarters, Three Lafayette Centre, 1155 21st Street NW, Washington, DC 20581 subject to CFTC facility health protocols in place at that time. You may submit public comments, identified by “Global Markets Advisory Committee,” through the CFTC website at https://comments.cftc.gov. Follow the instructions for submitting comments through the Comments Online process on the website. If you are unable to submit comments online, contact Gates S. Hurand, Designated Federal Officer, or Meghan Tente, Alternate Designated Federal Officer, via the contact information listed in the FOR FURTHER INFORMATION CONTACT section of this notice, to discuss alternate means of submitting your comments. Any statements submitted in connection with the committee meeting will be made available to the public, including publication on the CFTC website, https://www.cftc.gov.

FOR FURTHER INFORMATION CONTACT: Gates S. Hurand, GMAC Designated Federal Officer, Commodity Futures Trading Commission, Three Lafayette Centre, 1155 21st Street NW, Washington, DC 20581; (202) 418-5000; or Meghan Tente, GMAC Alternate Designated Federal Officer, Commodity Futures Trading Commission, Three Lafayette Centre, 1155 21st Street NW, Washington, DC; (202) 418-5000.

SUPPLEMENTARY INFORMATION: The meeting will be open to the public. Seating for the public may be limited due to the CDC's COVID-19 Community Level, which may require facilitating physical distancing to avoid overcrowding and additional restrictions. Members of the public may listen to the meeting by telephone by calling a domestic or international number to connect to a live, listen-only audio feed. Call-in participants should be prepared to provide their first name, last name, and affiliation.

Domestic Numbers: +1 669 254 5252, +1 646 828 7666, +1 669 216 1590, +1 551 285 1373, 833 568 8864 (Toll Free), or 833 435 1820 (Toll Free).

International Numbers: Will be posted on the CFTC's website, https://www.cftc.gov, on the page for the meeting, under Related Links.

Webinar ID: 161 214 0349.

Pass Code/Pin Code: 777139.

The meeting will also be open to the public via webcast on the https://www.cftc.gov website. The meeting agenda may change to accommodate other GMAC priorities. For agenda updates, please visit the GMAC committee site at: https://www.cftc.gov/About/AdvisoryCommittees/GMAC.

All written submissions provided to the CFTC in any form will also be published on the CFTC's website. Persons requiring special accommodations to attend the meeting because of a disability should notify the contact person above.

(Authority: 5 U.S.C. app. 2 section 10(a)(2).)

Dated: January 12, 2023.
Christopher Kirkpatrick,
Secretary of the Commission.

[FR Doc. 2023-00841 Filed 1-17-23; 8:45 am]

BILLING CODE 6351-01-P